DEPARTMENT OF THE INTERIOR

Bureau of Land Management

[LLUTW00000 L10600000 XZ0000 24 1A]

Notice of Mailing/Street Address Change for the BLM-Utah West Desert District and Salt Lake Field Offices

AGENCY: Bureau of Land Management, Interior.

ACTION: Notice.

SUMMARY: The mailing/street address for the Bureau of Land Management (BLM), West Desert District and Salt Lake Field Offices will be changing from 2370 South 2300 West, Salt Lake City, UT 84119-2022, to 2370 South Decker Lake Blvd., West Valley City, UT 84119-2022.

Persons who use a telecommunications device for the deaf (TDD) may call the Federal Information Relay Service (FIRS) at 1-800-877-8339 to leave a message or question for the above individual. The FIRS is available 24 hours a day, seven days a week. Replies are provided during normal business hours.

DATES: The proposed date will be on or about January 1, 2014.

FOR FURTHER INFORMATION CONTACT: Jared Posey, Administrative Officer, BLM West Desert District Office, at 801-977-4392.

Authority: Departmental Manual 382, Chapter 2.1.

Juan Palma,
State Director.

[FR Doc. 2013-25931 Filed 10-30-13; 8:45 am]

BILLING CODE 4310-DQ-P